DEPARTMENT OF COMMERCE

Foreign-Trade Zones Board

[B-23-2021]

Foreign-Trade Zone (FTZ) 7—Mayaguez, Puerto Rico, Authorization of Production Activity, IPR Pharmaceuticals, Inc. (Pharmaceutical Products), Canovanas, Puerto Rico

On March 15, 2021, IPR Pharmaceuticals, Inc., submitted a notification of proposed production activity to the FTZ Board for its facility within FTZ 7, in Canovanas, Puerto Rico.

The notification was processed in accordance with the regulations of the FTZ Board (15 CFR part 400), including notice in the Federal Register inviting public comment (86 FR 15642, March 24, 2021). On July 13, 2021, the applicant was notified of the FTZ Board's decision that no further review of the activity is warranted at this time. The production activity described in the notification was authorized, subject to the FTZ Act and the FTZ Board's regulations, including Section 400.14.

Dated: July 13, 2021.
Andrew McGilvray,
Executive Secretary.

[FR Doc. 2021-15126 Filed 7-15-21; 8:45 am]

BILLING CODE 3510-DS-P